DEPARTMENT OF HEALTH AND HUMAN SERVICES

Centers for Disease Control and Prevention

Advisory Committee to the Director, National Center for Environmental Health (NCEH): Notice of Charter Renewal

This gives notice under the Federal Advisory Committee Act (Pub. L. 92-463) of October 6, 1972, that the Advisory Committee to the Director, National Center for Environmental Health, Centers for Disease Control and Prevention of the Department of Health and Human Services, has been renewed for a 2-year period extending through August 2, 2004.

FOR FURTHER INFORMATION CONTACT: Kent Taylor, Acting Executive Secretary, NCEH, 4770 Buford Highway, N.E., m/s F-29, Atlanta, Georgia 30341-3724. Telephone 770/488-7020, or fax 770/488-7024, e-mail KXT1@cdc.gov.

The Director, Management Analysis and Services Office, has been delegated the authority to sign Federal Register notices pertaining to announcements of meetings and other committee management activities, for both the Centers for Disease Control and Prevention and the Agency for Toxic Substances and Disease Registry.

Dated: August 14, 2002.
Joseph E. Salter,
Acting Director, Management Analysis and Services Office, Centers for Disease Control and Prevention.

[FR Doc. 02-21082 Filed 8-19-02; 8:45 am]

BILLING CODE 4163-18-P